DEPARTMENT OF VETERANS AFFAIRS

Research and Development Cooperativese Studies Evaluation Committee; Notice of Meeting

The Department of Veterans Affairs (VA) gives notice under Public Law 92-463 (Federal Advisory Committee Act) that a meeting of the Research and Development, Cooperative Studies Evaluation Committee will be held at the Hyatt Regency Crystal City at Reagan National Airport, 2799 Jefferson Davis Highway, Arlington, VA 22202, on May 16, 2002. The session is scheduled to begin at 8:00 a.m. and end at 3:00 p.m. The three new studies submitted for review are: Diiodothyroproprionic Acid, a Thyroid Analog to Treat Heart Failure, Phase II Trial; The Midwest Gulf War Cohort Study; and Ft. Devens Gulf War Veteran Cohort, A Longitudinal Study.

The Committee advises the Chief Research and Development Officer through the Director of the Cooperative Studies Program on the relevance and feasibility of the studies, the adequacy of the protocols, and the scientific validity and propriety of technical details, including protection of human subjects.

The meeting will be open to the public from 8:00 a.m. to 8:30 a.m. to discuss the general status of the program. Those who plan to attend should contact Ms. Denise Shorter, Staff Assistant, Department of Veterans Affairs (125D), 810 Vermont Avenue, NW., Washington, DC 20420, at (202) 565-7016.

The meeting will be closed from 8:30 a.m. to 3:00 p.m. This portion of the meeting involves consideration of specific proposals in accordance with provisions set forth in section 10(d) of Public Law 92-463, as amended by sections 5(c) of Public Law 94-409, and 5 U.S.C. 552b(c)(6). During the closed session of the meeting, discussions and recommendations will deal with qualifications of personnel conducting the studies, staff and consultant critiques of research proposals, and similar documents, and the medical records of patients who are study subjects, the disclosure of which would constitute a clearly unwarranted invasion of personal privacy.

By Direction of the Secretary.
Dated: April 29, 2002.
Nora E. Egan,
Committee Management Officer.

[FR Doc. 02-10954 Filed 5-1-02; 8:45 am]

BILLING CODE 8320-01-M